DEPARTMENT OF JUSTICE

[OMB Number 1110-0015]

Agency Information Collection Activities; Proposed eCollection eComments Requested; Extension of a Currently-Approved Collection; Hate Crime Incident Report

AGENCY: Federal Bureau of Investigation (FBI), Department of Justice (DOJ).

ACTION: 60-Day notice and request for comments.

SUMMARY: The DOJ, FBI, Criminal Justice Information Services (CJIS) Division, will be submitting the following information collection request to the Office of Management and Budget for review and approval in accordance with the Paperwork Reduction Act (PRA) of 1995.

DATES: Comments are encouraged and will be accepted for 60 days until January 4, 2021.

FOR FURTHER INFORMATION CONTACT: If you have additional comments especially on the estimated public burden or associated response time, suggestions, or need a copy of the proposed information collection instrument with instructions or additional information, please contact Amy C. Blasher, Crime Statistics Management Unit Chief, FBI, CJIS Division, Module E-3, 1000 Custer Hollow Road, Clarksburg, West Virginia 26306, acblasher@fbi.gov, 304-625-4840.

SUPPLEMENTARY INFORMATION: Written comments and suggestions from the public and affected agencies concerning the proposed collection of information are encouraged. Your comments should address one or more of the following four points:

—Evaluate whether the proposed collection of information is necessary for the proper performance of the functions of the FBI, including whether the information will have practical utility;

—Evaluate the accuracy of the agency's estimate of the burden of the proposed collection of information, including the validity of the methodology and assumptions used;

—Evaluate whether, and if so, how the quality, utility, and clarity of the information to be collected can be enhanced; and

—Minimize the burden of the collection of information on those who are to respond, including through the use of appropriate automated, electronic, mechanical, or other technological collection techniques or other forms of information technology (e.g., permitting electronic submission of responses).

Overview of This Information Collection

1. Type of Information Collection: Extension of a currently-approved collection.

2. The Title of the Form/Collection: Hate Crime Incident Report.

3. The agency form number, if any, and the applicable component of the Department sponsoring the collection: The form number is 1-700. The applicable component within the DOJ is the CJIS Division of the FBI.

4. Affected public who will be asked or required to respond, as well as a brief abstract:

Primary: Federal, state, local, and tribal law enforcement agencies (LEAs).

Abstract: Under Title 28, United States Code (U.S.C.), Section (§ ) 534, subsections (a) and (c); the Hate Crime Statistics Act, 34 U.S.C., § 41305, modified by the Matthew Shepard and James Byrd, Jr., Hate Crimes Prevention Act (2009), Public Law, § 4708; and the Uniform Federal Crime Reporting Act of 1988, 34 U.S.C. 41303, this information collection requests hate crime data from LEAs in order for the FBI UCR Program to serve as the national clearinghouse for the collection and dissemination of hate crime data and to publish these statistics annually in Hate Crime Statistics and the National Incident-Based Reporting System. The hate crime data provide information about the bias motivation, offenses, victims, offenders, and locations of hate crime incidents.

5. An estimate of the total number of respondents and the amount of time estimated for an average respondent to respond: The estimated number of LEAs submitting monthly data to the FBI UCR Program is 15,588. Annually, those LEAs submit a total of 187,056 responses (15,588 LEAs × 12 months = 187,056 annual responses). The estimated time it takes for an average respondent to respond is seven minutes. Therefore, the estimated annual public burden associated with the Hate Crime Data Collection is 21,823 hours [(187,056 annual responses × 7 minutes per response)/60 minutes per hour = 21,823.2 total annual hours].

If additional information is required contact: Melody Braswell, Department Clearance Officer, United States Department of Justice, Justice Management Division, Policy and Planning Staff, Two Constitution Square, 145 N Street NE, 3E.405A, Washington, DC 20530.

Dated: October 29, 2020.
Melody Braswell,
Department Clearance Officer for PRA, U.S. Department of Justice.

[FR Doc. 2020-24362 Filed 11-2-20; 8:45 am]

BILLING CODE 4410-02-P